DEPARTMENT OF ENERGY

Federal Energy Regulatory Commission

Combined Notice of Filings

Take notice that the Commission has received the following Natural Gas Pipeline Rate and Refund Report filings:

Filings Instituting Proceedings

Docket Numbers: PR22-10-000.

Applicants: Permian Highway Pipeline LLC.

Description: Submits tariff filing per 284.123(b),(e)/: 2021 PHP Fuel Filing to be effective 10/1/2021.

Filed Date: 12/9/2021.

Accession Number: 20211209-5000.

Comments/Protests Due: 5 p.m. ET 12/30/21.

Docket Numbers: RP22-405-000.

Applicants: Ozark Gas Transmission, L.L.C.

Description: Compliance filing: Ozark Gas Transmission NAESB Compliance Filing to be effective 6/1/2022.

Filed Date: 12/10/21.

Accession Number: 20211210-5081.

Comment Date: 5 p.m. ET 12/22/21.

Docket Numbers: RP22-406-000.

Applicants: ANR Pipeline Company.

Description: § 4(d) Rate Filing: ANR Creditworthiness to be effective 1/10/2022.

Filed Date: 12/10/21.

Accession Number: 20211210-5123.

Comment Date: 5 p.m. ET 12/22/21.

Docket Numbers: RP22-407-000.

Applicants: Rockies Express Pipeline LLC.

Description: § 4(d) Rate Filing: REX 2021-12-10 Negotiated Rate Agreement to be effective 12/11/2021.

Filed Date: 12/10/21.

Accession Number: 20211210-5131.

Comment Date: 5 p.m. ET 12/22/21.

Docket Numbers: RP22-408-000.

Applicants: Freebird Gas Storage, L.L.C.

Description: § 4(d) Rate Filing: Updates to Freebird Gas Storage LLC FERC Gas Tariff to be effective 1/9/2022.

Filed Date: 12/10/21.

Accession Number: 20211210-5160.

Comment Date: 5 p.m. ET 12/22/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2021.
Debbie-Anne A. Reese,
Deputy Secretary.

[FR Doc. 2021-27370 Filed 12-16-21; 8:45 am]

BILLING CODE 6717-01-P